COMMITTEE FOR THE IMPLEMENTATION OF TEXTILE AGREEMENTS

Adjustment of Import Limits for Certain Cotton, Man-Made Fiber, Silk Blend and Other Vegetable Fiber Textiles and Textile Products Produced or Manufactured in India

August 17, 2000.

AGENCY: Committee for the Implementation of Textile Agreements (CITA).

ACTION: Issuing a directive to the Commissioner of Customs adjusting limits.

EFFECTIVE DATE: August 24, 2000.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted for carryover, carryforward, special carryforward, swing, special swing and the 5% adjustment for 100% cotton apparel items of handloomed fabric.

A description of the textile and apparel categories in terms of HTS numbers is available in the CORRELATION: Textile and Apparel Categories with the Harmonized Tariff Schedule of the United States (see Federal Register notice 64 FR 71982, published on December 22, 1999). Also see 64 FR 70220, published on December 16, 1999.

Richard B. Steinkamp,
Acting Chairman, Committee for the Implementation of Textile Agreements.

Committee for the Implementation of Textile Agreements

August 17, 2000.

Commissioner of Customs,

Department of the Treasury, Washington, DC 20229.

Dear Commissioner: This directive amends, but does not cancel, the directive issued to you on December 10, 1999, by the Chairman, Committee for the Implementation of Textile Agreements. That directive concerns imports of certain cotton, man-made fiber, silk blend and other vegetable fiber textiles and textile products, produced or manufactured in India and exported during the twelve-month period which began on January 1, 2000 and extends through December 31, 2000.

Effective on August 24, 2000, you are directed to adjust the limits for the following categories, as provided for under the Uruguay Round Agreement on Textiles and Clothing:

Category | Adjusted twelve-month limit ¹
Levels in Group I |
218 | 19,268,753 square meters.
219 | 80,578,347 square meters.
313 | 47,058,736 square meters.
315 | 17,376,373 square meters.
317 | 47,849,395 square meters.
326 | 11,008,721 square meters.
334/634 | 163,456 dozen.
335/635 | 657,672 dozen.
336/636 | 1,187,021 dozen.
338/339 | 4,733,150 dozen.
340/640 | 2,580,065 dozen.
341 | 5,086,251 dozen of which not more than 3,140,840 dozen shall be in Category 341-Y ².
342/642 | 1,603,733 dozen.
345 | 232,344 dozen.
347/348 | 881,042 dozen.
351/651 | 368,945 dozen.
369-S ³ | 875,426 kilograms.
641 | 1,670,026 dozen.
647/648 | 829,068 dozen.
Group II |
200, 201, 220-227, 237, 239pt. ⁴, 300, 301, 331-333, 350, 352, 359pt. ⁵, 360-362, 600-604, 607, 611-629, 631, 633, 638, 639, 643-646, 649, 650, 652, 659pt. ⁶, 666, 669pt. ⁷, 670, 831, 833-838, 840-858 and 859pt. ⁸, as a group | 142,271,990 square meters equivalent.
¹ The limits have not been adjusted to account for any imports exported after December 31, 1999.
² Category 341-Y: only HTS numbers 6204.22.3060, 6206.30.3010, 6206.30.3030 and 6211.42.0054.
³ Category 369-S: only HTS number 6307.10.2005.
⁴ Category 239pt.: only HTS number 6209.20.5040 (diapers).
⁵ Category 359pt.: all HTS numbers except 6406.99.1550.
⁶ Category 659pt.: all HTS numbers except 6406.99.1510 and 6406.99.1540.
⁷ Category 669pt.: all HTS numbers except 5601.10.2000, 5601.22.0090, 5607.49.3000, 5607.50.4000 and 6406.10.9040.
⁸ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,

Richard B. Steinkamp,

Acting Chairman, Committee for the Implementation of Textile Agreements.

[FR Doc.00-21529 Filed 8-22-00; 8:45 am]

BILLING CODE 3510-DR-F